DEPARTMENT OF HEALTH AND HUMAN SERVICES

National Institutes of Health

Center for Scientific Review; Amended Notice of Meeting

Notice is hereby given of a change in the meeting of the Biology and Development of the Eye Study Section, June 8-9, 2023, 9:00 a.m. to 6:00 p.m., National Institutes of Health, Rockledge II, 6701 Rockledge Drive, Bethesda, MD 20892 (Virtual Meeting) which was published in the Federal Register on May 1, 2023, 88 FR 26581, page 26581-26582.

The meeting notice is amended to change the SRO for the meeting from Kevin Czaplinski to Zubaida Saifudeen. The meeting is closed to the public.

Dated: May 9, 2023.
David W. Freeman,
Program Analyst, Office of Federal Advisory Committee Policy.

[FR Doc. 2023-10226 Filed 5-12-23; 8:45 am]

BILLING CODE 4140-01-P